DEPARTMENT OF DEFENSE

Office of the Secretary

[Transmittal No. 25-59]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-59, Policy Justification, and Sensitivity of Technology.

Dated: January 21, 2026.
Stephanie J. Bost,
Alternate OSD Federal Register Liaison Officer, Department of Defense.

BILLING CODE 6001-FR-P

BILLING CODE 6001-FR-C

Transmittal No. 25-59

Notice of Proposed Issuance of Letter of Offer Pursuant to Section 36(b)(1) of the Arms Export Control Act, as amended

(i) Prospective Purchaser: Government of Israel

(ii) Total Estimated Value:

Major Defense Equipment * | $500 million
Other | $ 10 million
TOTAL | $510 million

Funding Source: Foreign Military Financing

(iii) Description and Quantity or Quantities of Articles or Services under Consideration for Purchase:

Major Defense Equipment (MDE):

Three thousand eight hundred forty-five (3,845) KMU-558B/B Joint Direct Attack Munition (JDAM) guidance kits for the BLU-109 bomb body

Three thousand two hundred eighty (3,280) KMU-572 F/B JDAM guidance kits for the MK 82 bomb body

Non-Major Defense Equipment:

The following non-MDE items will also be included: United States (U.S.) government and contractor engineering, logistics, and technical support services; and other related elements of logistics and program support.

(iv) Military Department: Navy (IS-P-AVR)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: June 30, 2025

* as defined in Section 47(6) of the Arms Export Control Act.

POLICY JUSTIFICATION

Israel—Munitions Guidance Kits and Munitions Support

The Government of Israel has requested to buy three thousand eight hundred forty-five (3,845) KMU-558B/B Joint Direct Attack Munition (JDAM) guidance kits for the BLU-109 bomb body and three thousand two hundred eighty (3,280) KMU-572 F/B JDAM guidance kits for the MK 82 bomb body. The following non-MDE items will also be included: U.S. government and contractor engineering, logistics, and technical support services; and other related elements of logistics and program support. The estimated total cost is $510 million.

The U.S. is committed to the security of Israel, and it is vital to U.S. national interests to assist Israel to develop and maintain a strong and ready self-defense capability. This proposed sale is consistent with those objectives.

The proposed sale will enhance Israel's capability to meet current and future threats by improving its ability to defend Israel's borders, vital infrastructure, and population centers. This proposed sale will increase the interoperability with U.S. forces and conveys U.S. commitment to Israel's security and armed forces modernization. Israel will have no difficulty absorbing this equipment into its armed forces.

The proposed sale of this equipment and support will not alter the basic military balance in the region.

The principal contractor will be The Boeing Company, located in St. Charles, MO. Part of the JDAM guidance kit requirement may be transferred from U.S. government stock. At this time, the U.S. government is not aware of any offset agreement proposed in connection with this potential sale. Any offset agreement will be defined in negotiations between the purchaser and the contractor.

Implementation of this proposed sale will not require the assignment of any additional U.S. government or contractor representatives to Israel.

There will be no adverse impact on U.S. defense readiness as a result of this proposed sale.

Transmittal No. 25-59

Notice of Proposed Issuance of Letter of Offer Pursuant to Section 36(b)(1) of the Arms Export Control Act

Annex

Item No. vii

(vii) Sensitivity of Technology:

1. Joint Direct-Attack Munitions (JDAM) consist of a bomb body paired with a warhead-specific guidance kit containing an Inertial Navigation System (INS)/Global Positioning System (GPS) guidance capability with Selective Availability Anti-Spoofing Module (SAASM) or M-Code that converts unguided free-fall bombs into accurate, adverse weather “smart” munitions. The JDAM weapon can be delivered from modest standoff ranges at high or low altitudes against a variety of land and surface targets during the day or night. The JDAM can receive target coordinates via preplanned mission data from the delivery aircraft, by onboard aircraft sensors (e.g., forward-looking infrared, radar) during captive carry, or from a third-party source via manual or automated aircrew cockpit entry.

a. The KMU-558 guidance kit is paired with a BLU-109 class warhead to assemble a GBU-31 JDAM.

b. The KMU-572 guidance kit is paired with a MK 82 class warhead to assemble a GBU-38 JDAM.

2. The highest level of classification of defense articles, components, and services included in this potential sale is UNCLASSIFIED.

3. If a technologically advanced adversary were to obtain knowledge of the specific hardware and software elements, the information could be used to develop countermeasures that might reduce system effectiveness or be used in the development of a system with similar or advanced capabilities.

4. A determination has been made that Israel can provide substantially the same degree of protection for the sensitive technology being released as the U.S. Government. This sale is necessary in furtherance of the U.S. foreign policy and national security objectives outlined in the Policy Justification.

5. All defense articles and services listed in this transmittal have been authorized for release and export to the Government of Israel.

[FR Doc. 2026-01342 Filed 1-23-26; 8:45 am]

BILLING CODE 6001-FR-P